DEPARTMENT OF THE INTERIOR

Bureau of Reclamation

[INT-FES 10-43]

Minidoka Dam Spillway Replacement, Minidoka County, ID

AGENCY: Bureau of Reclamation, Interior.

ACTION: Notice of availability of the Final Environmental Impact Statement (FEIS).

SUMMARY: Pursuant to section 102(2)(C) of the National Environmental Policy Act (NEPA) of 1969, as amended, the Bureau of Reclamation (Reclamation) is notifying the public that it has prepared a FEIS on the proposed Minidoka Dam Spillway Replacement. The U.S. Fish and Wildlife Service (Department of Interior) and Rural Development (Department of Agriculture) are cooperating agencies under NEPA. Alternatives considered in the FEIS are the No Action, as required under NEPA; total replacement of the spillway and headgate structures; and replacement of just the spillway. Total replacement of the spillway and headgate structures is the preferred alternative. Proposed changes in operations following construction are also evaluated, as is designation of special use areas. Reclamation published a Draft EIS in the Federal Register on December 11, 2009 (74 FR 65783) with a public comment period ending on February 5, 2010. The Final EIS includes written responses to all public comments on the Draft EIS. Revisions were made in the FEIS to incorporate responses to comments. In response to comments an adaptive management approach, which includes monitoring of effects resulting from changes in operations, has been added and proposed changes to operations will be made over a 4-year period. These revisions do not significantly change the analysis or results presented in the Draft EIS. However, if monitoring under the adaptive management approach shows different impacts than are documented in this FEIS, and changes to proposed operations (as discussed in this FEIS) are made as a result of monitoring, additional NEPA compliance will be conducted to document those changes and/or impacts.

DATES: Reclamation will not make a decision on the proposed action until at least 30 days after filing of the FEIS with the Environmental Protection Agency. After the 30-day waiting period, Reclamation will complete a Record of Decision. The Record of Decision will identify the selected action for implementation and will discuss factors and rationale used in making the decision.

ADDRESSES: Bureau of Reclamation, Snake River Area Office, Attention: Allyn Meuleman, Activity Manager, 230 Collins Road, Boise, ID 83702-4520. Comments may also be submitted electronically to minidoka_dam_eis@usbr.gov.

FOR FURTHER INFORMATION CONTACT: Allyn Meuleman, (208) 383-2258, fax: (208) 383-2237 or at the above address. The FEIS and other information on this project can be found at: http://www.usbr.gov/pn/programs/eis/minidokadam/index.html.

SUPPLEMENTARY INFORMATION: Minidoka Dam impounds Lake Walcott and is a feature of Reclamation's Minidoka Project. They are located on the main stem Snake River about 18 miles northeast from the city of Burley, ID within the Minidoka Wildlife Refuge. After over 103 years of continued use, the over 2000-foot long concrete spillway at the Minidoka Dam has reached the end of its functional lifespan. The concrete that forms the spillway crest and the piers of the pier-and-stoplog structure shows extensive visible deterioration at numerous locations. In addition, the potential for ice damage to the stoplog piers requires that reservoir water levels be dropped each winter. The headgate structures at the North Side Canal and South Side Canal also show serious concrete deterioration similar to that seen along the spillway. The current conditions of the Minidoka Dam spillway and headgate structures present increasingly difficult reliability and maintenance problems. If structural problems are not corrected there is potential of partial or complete failure of the spillway and headgates. If these failures occur, Reclamation may not be able to meet contractual obligations for water delivery, power generation and Reclamation's commitments to deliver flow augmentation water under the Nez Perce Settlement Agreement and the Endangered Species Act.

Public Review Locations:

The FEIS is available for public inspection at the following locations:

• Bureau of Reclamation, Pacific Northwest Regional Office, 1150 N Curtis Road, Boise, ID.

• Bureau of Reclamation, Snake River Area Office, 230 Collins Road, Boise, ID.

• Bureau of Reclamation, Upper Snake Field Office, 1359 Hansen Avenue, Burley, ID.

Timothy L. Personius,
Acting Regional Director, Pacific Northwest Region.

[FR Doc. 2010-20284 Filed 8-16-10; 8:45 am]

BILLING CODE 4310-MN-P